DEPARTMENT OF JUSTICE

Antitrust Division

Notice Pursuant to the National Cooperative Research and Production Act of 1993—Tree Care Industry Association (“TCIA”)

Notice is hereby given that, on September 8, 2004, pursuant to Section 6(a) of the National Cooperative Research and Production Act of 1993, 15 U.S.C. 4301 et seq. (“the Act”), Tree Care Industry Association (“TCIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances. Pursuant to section 6(b) of the Act, the name and principal place of business of the standards development organization is Tree Care Industry Association, Inc., Manchester, NH. The nature and scope of the TCIA's standards development activities are to serve as the secretariat and SDO for the American National Standards Institute (ANSI) A300 standards for tree, shrub, and other woody plant maintenance operations. The ANSI-accredited Standards Committee (ASC) A300 is the committee that writes the standards. TCIA currently has developed four performance standards addressing tree, shrub, and other woody plant maintenance operations: ANSI A300 Part 1-2001 Pruning; ANSI A300 Part-2004 Fertilization; ANSI A300 Part 3-2000 Support Systems; and ANSI A300 Part 4-2002 Lightning Protection Systems. TCIA also has three standards in development: BSR A300 Part 5-200x Management of Trees and Shrubs during Site Planning, Site Development, and Construction; BSR A300 Part 6-200x Transplanting; and PINS Part 7-200x Integrated Vegetation Management (IVM). TCIA is the SDO for the TCIA Standards for Accreditation. The TCIA Accreditation Council is the committee that writes the standards. The current Version is TCIA Accreditation Council Standards for Accreditation Draft 4 Version 2. TCIA was formerly the SDO for the NAA Standards for Pruning of Shade Trees; Guying of Shade Trees; Fertilizing Shade and Ornamental Trees; Lightning Protection Installation Systems for Trees; and Hydraulic Sprayer Calibration. The NAA Standard Practices committee was the committee that wrote the standards. The NAA standards were last updated in 1988 and no longer maintained by the TCIA. They are considered obsolete and have been superseded by ANSI 300 standards; however they are still used by some arborists, tree care companies, and governmental agencies.

Dorothy B. Fountain,
Deputy Director of Operations, Antitrust Division.

[FR Doc. 04-22160 Filed 10-1-04; 8:45 am]

BILLING CODE 4410-11-M